DEPARTMENT OF LABOR

Employment and Training Administration

[TA-W-62,223; TA-W-62,223A;TA-W-62,223B]

Bodine Corporation; Including Workers Whose Wages Were Paid by ATW Bodine, Bridgeport, Connecticut; Including Employees of Bodine Corporation, Including Workers Whose Wages Were Paid by ATW Bodine, Bridgeport, Connecticut, Located in the Following Locations: Goshen, Kentucky; Allison Park, Pennsylvania; Amended Certification Regarding Eligibility To Apply for Worker Adjustment Assistance and Alternative Trade Adjustment Assistance

In accordance with section 223 of the Trade Act of 1974 (19 U.S.C. 2273), and section 246 of the Trade Act of 1074 (26 U.S.C. 2813), as amended, the Department of Labor issued a Certification of Eligibility To Apply for Worker Adjustment Assistance and Alternative Trade Adjustment Assistance on November 20, 2007, applicable to workers of Bodine Corporation, Bridgeport, Connecticut. The notice was published in the Federal Register on December 10, 2007 (72 FR 69710).

At the request of the State agency, the Department reviewed the certification for workers of the subject firm. The workers were engaged in the production of automated assembly machines.

New information shows that ATW (Assembly Technology Worldwide) purchased certain assets of Bodine Corporation in November 2007. Some workers of the subject firm then became employees of ATW Bodine and their wages were reported under two separate unemployment insurance (UI) tax accounts for ATW Bodine and Bodine Corporation.

Information also shows that worker separations have occurred involving employees of the Bridgeport, Connecticut facility of the subject firm who are located in Goshen, Kentucky and Allison Park, Pennsylvania. Mr. John Artman and Mr. Kevin Moore provided sale function services for the Bridgeport, Connecticut location of the subject firm.

Accordingly, the Department is amending the certification to properly reflect these matters.

The intent of the Department's certification is to include all workers of Bodine Corporation who were adversely affected by increased customer imports.

The amended notice applicable to TA-W-62,223 is hereby issued as follows:

All workers of Bodine Corporation, including workers whose wages were paid by ATW Bodine, Bridgeport, Connecticut, including employees in support of Bodine Corporation, including workers whose wages were paid by ATW Bodine, Bridgeport, Connecticut located in Goshen, Kentucky (TA-W-62,223A) and Allison Park, Pennsylvania (TA-W-62,223B), who became totally or partially separated from employment on or after September 28, 2006, through November 20, 2009, are eligible to apply for adjustment assistance under section 223 of the Trade Act of 1974, and are also eligible to apply for alternative trade adjustment assistance under section 246 of the Trade Act of 1974.

Signed at Washington, DC this 10th day of January 2008.
Elliott S. Kushner,
Certifying Officer, Division of Trade Adjustment Assistance.

[FR Doc. E8-840 Filed 1-17-08; 8:45 am]

BILLING CODE 4510-FN-P